NATIONAL AERONAUTICS AND SPACE ADMINISTRATION

[Notice 00-127]

NASA Advisory Council, Space Flight Advisory Committee (SFAC); Meeting

AGENCY: National Aeronautics and Space Administration.

ACTION: Notice of meeting.

SUMMARY: In accordance with the Federal Advisory Committee Act, Pub. L. 92-463, as amended, the National Aeronautics and Space Administration announces a meeting of the NASA Advisory Council, Space Flight Advisory Committee.

DATES: Monday, November 6, 2000 from 8 a.m. until 5:30 p.m. and on Tuesday, November 7, 2000 from 8 a.m. until 3:30 p.m.

ADDRESSES: Kennedy Space Center Visitor Complex, Atlas Room, Kennedy Space Center, FL 32899.

FOR FURTHER INFORMATION CONTACT: Ms. Susan Y. Edgington (Stacey), Code M, National Aeronautics and Space Administration, Washington, DC 20546, 202/358-4519.

SUPPLEMENTARY INFORMATION: The meeting will be open to the public up to seating capacity of the room. The agenda for the meeting is as follows:

—Overview, status and metrics for Office of Space Flight programs.

—Shuttle upgrades discussion.

—International Space Station commercialization

It is imperative that the meeting be held on this date to accommodate the scheduling priorities of the key participants. Visitors will be requested to sign a visitor's register.

Dated: October 16, 2000.
Beth M. McCormick,
Advisory Committee Management Officer, National Aeronautics and Space Administration.

[FR Doc. 00-26931 Filed 10-18-00; 8:45 am]

BILLING CODE 7510-01-P